DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from the public, and from local, State and Federal agencies on the following permit request.

DATES: Comments on these permit applications must be received on or before February 23, 2005.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION: Permit No.: TE-818627.

Applicant: Oregon Department of Fish and Wildlife, Corvallis, Oregon.

The permittee requests an amendment to take (capture, handle, mark, recapture, and release) the Borax Lake chub (Gila boraxobius) in conjunction with population studies in Harney County, Oregon, for the purpose of enhancing its survival.

Permit No.: TE-097622.

Applicant: Bishop Museum, Honolulu, Hawaii.

The applicant requests an interstate commerce permit to send two dead specimens of the Hawaiian hoary bat (Lasiurus cinereus semotus) to a taxidermist with Kahle Studios, Jackson, Missouri. These specimens will be used for educational and scientific purposes to enhance the survival of the species.

We solicit public review and comment on these recovery permit applications.

Dated: January 4, 2005.
David J. Wesley,
Acting Regional Director, Region 1, U.S. Fish and Wildlife Service.

[FR Doc. 05-1209 Filed 1-21-05; 8:45 am]

BILLING CODE 4310-55-P